INTERNATIONAL TRADE COMMISSION

[USITC SE-17-037]

Government in the Sunshine Act Meeting Notice

Agency Holding the Meeting: United States International Trade Commission.

Time and Date: August 30, 2017 at 11:00 a.m.

Place: Room 101, 500 E Street SW., Washington, DC 20436, Telephone: (202) 205-2000.

Status: Open to the public.

Matters to be Considered:

1. Agendas for future meetings: None.

2. Minutes.

3. Ratification List.

4. Vote in Inv. No. 731-TA-1339 (Final) (Steel Concrete Reinforcing Bar from Taiwan). The Commission is currently scheduled to complete and file its determination and views of the Commission by September 11, 2017.

5. Vote in Inv. Nos. 701-TA-382 and 731-TA-800, 801, and 803 (Third Review) (Stainless Steel Sheet and Strip from Japan, Korea, and Taiwan). The Commission is currently scheduled to complete and file its determinations and views of the Commission by September 20, 2017.

6. Outstanding action jackets: None.

In accordance with Commission policy, subject matter listed above, not disposed of at the scheduled meeting, may be carried over to the agenda of the following meeting.

By order of the Commission.
Issued: August 16, 2017.
Katherine M. Hiner,
Supervisory Attorney.

[FR Doc. 2017-17863 Filed 8-18-17; 4:15 pm]

BILLING CODE 7020-02-P